DEPARTMENT OF AGRICULTURE

Animal and Plant Health Inspection Service

[Docket No. APHIS-2017-0093]

Notice of Request for Revision to and Extension of Approval of an Information Collection; Commercial Transportation of Equines for Slaughter

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the commercial transportation of equines to slaughtering facilities.

DATES: We will consider all comments that we receive on or before February 12, 2018.

ADDRESSES: You may submit comments by either of the following methods:

• Federal eRulemaking Portal: Go to http://www.regulations.gov/#!docketDetail;D=APHIS-2017-0093.

• Postal Mail/Commercial Delivery: Send your comment to Docket No. APHIS-2017-0093, Regulatory Analysis and Development, PPD, APHIS, Station 3A-03.8, 4700 River Road, Unit 118, Riverdale, MD 20737-1238.

Supporting documents and any comments we receive on this docket may be viewed at http://www.regulations.gov/#!docketDetail;D=APHIS-2017-0093 or in our reading room, which is located in Room 1141 of the USDA South Building, 14th Street and Independence Avenue SW, Washington, DC. Normal reading room hours are 8 a.m. to 4:30 p.m., Monday through Friday, except holidays. To be sure someone is there to help you, please call 202-799-7039 before coming.

FOR FURTHER INFORMATION CONTACT: For information on the regulations for the commercial transportation of equines for slaughter, contact Mr. Joseph Astling, Compliance & Outreach, Commercial Transport of Equines for Slaughter, Surveillance, Preparedness, and Response Services, VS, APHIS, 4700 River Road, Unit 46, Riverdale, MD 20737; (817) 247-3704. For copies of more detailed information on the information collection, contact Ms. Kimberly Hardy, APHIS' Information Collection Coordinator, at (301) 851-2843.

SUPPLEMENTARY INFORMATION: Title: Commercial Transportation of Equines for Slaughter.

OMB Control Number: 0579-0332.

Type of Request: Revision to and extension of approval of an information collection.

Abstract: Sections 901-905 of the Federal Agriculture Improvement and Reform Act of 1996 (7 U.S.C. 1901) authorize the Secretary of Agriculture to issue guidelines for regulating the commercial transportation of equines for slaughter by persons regularly engaged in that activity within the United States. Specifically, the Secretary is authorized to regulate the food, water, and rest provided to these equines while the equines are in transit and to review related issues appropriate to ensuring that these animals are treated humanely. Based on that authority, the U.S. Department of Agriculture (USDA), Animal and Plant Health Inspection Service (APHIS) established regulations in 9 CFR part 88, “Commercial Transportation of Equines for Slaughter.”

The regulations in part 88 provide minimum standards that cover, among other things, the food, water, and rest provided to such equines prior to transportation. The regulations also prohibit the commercial transportation for slaughter of equines considered to be unfit for travel, the use of electric prods on such animals in commercial transportation for slaughter, and the use of double-deck trailers for commercial transportation of equines for slaughter.

APHIS' regulations also require the application of backtags and the completion of owner/shipper certificates of fitness to travel to a slaughter facility that include identification of the animals, details of the transportation, and signatures attesting to compliance with the provision of food, rest, and water, and to the animal's fitness to travel. In addition, any owner/shipper transporting equines to slaughtering facilities outside the United States must present the owner-shipper certificates to USDA representatives at the U.S. border.

Implementing these regulations entails the use of information collection activities, such as providing business information, completing owner/shipper certificates of fitness to travel to a slaughter facility, certificates of veterinary inspection, maintaining records of the owner/shipper certificate and continuation sheet, and applying backtags, as needed.

The information collection requirements above are currently approved by the Office of Management and Budget (OMB) for the commercial transportation of equines for slaughter under OMB control numbers 0579-0332 and 0579-0160. After OMB approves this combined information collection package (0579-0332), APHIS will retire OMB control number 0579-0160.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.465 hours per response.

Respondents: Owners and shippers of slaughter horses, owners or operators of slaughtering facilities, and drivers of the transport vehicles.

Estimated annual number of respondents: 302.

Estimated annual number of responses per respondent: 61.

Estimated annual number of responses: 18,500.

Estimated total annual burden on respondents: 8,608 hours. (Due to averaging, the total annual burden hours may not equal the product of the annual number of responses multiplied by the reporting burden per response.)

All responses to this notice will be summarized and included in the request for OMB approval. All comments will also become a matter of public record.

Done in Washington, DC, this 7th day of December 2017.
Kevin Shea,
Administrator, Animal and Plant Health Inspection Service.

[FR Doc. 2017-26788 Filed 12-12-17; 8:45 am]

BILLING CODE 3410-34-P